DEPARTMENT OF THE INTERIOR

Bureau of Land Management

[UT-062-07-1220-EB]

Notice of Intent To Collect Fees on Public Land in Grand County, Utah, Moab Field Office Under the Federal Lands Recreation Enhancement Act (REA)

AGENCY: Bureau of Land Management, Interior.

ACTION: Notice of Intent.

SUMMARY: Pursuant to applicable provisions of the Federal Lands Recreation Enhancement Act (REA), 16 U.S.C. 6801 et seq., the Moab Field Office of the Bureau of Land Management (BLM) is proposing to begin collecting fees in 2008 for five camping areas: Lower Onion Creek (T. 24 S., R. 23 E., Sec. 10, within, SLM), Rock Castle (T. 25 S., R. 24 E., Sec. 29, within, SLM), Ledge (T. 27 S., R. 21 E., Sections 3 and 10, within, SLM), Cowboy Camp (T. 26 S., R. 19 E., Sec. 11, within, SLM), and Lone Mesa (T. 25 S., R. 19 E., Sec. 10, within, SLM). These proposed sites are located in Grand County, Utah.

DATES: Effective Date: The public is encouraged to participate during the public comment period that will expire 30 days after publication of this notice. Effective six months after the publication of this notice, the BLM, Moab Field Office will initiate fee collection at the Lower Onion Creek, Rock Castle, Ledge, Cowboy Camp, and Lone Mesa camping areas, as construction work is completed, unless the BLM publishes a Federal Register notice to the contrary. The Utah Resource Advisory Council (RAC), functioning as a Recreation Resource Advisory Committee (RRAC) has reviewed the proposal to charge fees at the sites mentioned above. The RAC unanimously approved the proposal at its May 2, 2007 meeting. Future adjustments in the fee amount will be made in accordance with the Moab Field Office's recreation fee business plan covering the sites. Fee increases will be made after consultation with the RAC and other appropriate advance public notice.

ADDRESSES: Mail: Field Manager, Moab Field Office, Bureau of Land Management, 82 East Dogwood, Moab, UT 84532 or momail@ut.blm.gov.

For Further Information, or to Provide Comment, Contact: Russell von Koch, Recreation Branch Chief, Moab Field Office, Bureau of Land Management, 82 East Dogwood, Moab, UT 84532 (435) 259-2100.

SUPPLEMENTARY INFORMATION: Under Section 3(g) of the REA, the Lower Onion Creek, Rock Castle, Ledge, Cowboy Camp, and Lone Mesa camping areas the “camping areas” will qualify, upon completion, as sites wherein visitors can be charged an “Expanded Amenity Recreation Fee.” Visitors wishing to use the expanded amenities the BLM is developing at the five camping areas would purchase a recreation use permit as described at 43 CFR part 2930. Pursuant to REA and implementing regulations at 43 CFR subpart 2933, fees may be charged for overnight camping and group use reservations. Specific visitor fees will be identified and posted at the site. Fees must be paid at the self-service pay station located at the site. People holding the America The Beautiful—The National Parks and Federal Recreational Lands—Senior Pass (i.e., Interagency Senior Pass), a Golden Age Passport, the America the Beautiful—The National Parks and Federal Recreational Lands—Access Pass (i.e. Interagency Access Pass), or a Golden Access Passport will be entitled to a 50 percent fee reduction on all fees except those associated with group reservations. Fees charged for use of the group sites would include a non-refundable site reservation fee and a per person use fee.

The Lower Onion Creek and Rock Castle camping areas are within and adjacent to the Colorado Riverway Recreation Area which includes ten existing similar fee sites. The Lower Onion Creek site would include both group site facilities and individual campsites. The Rock Castle site has individual camp sites only. The Ledge area, which would have individual sites, is located in Kane Creek Canyon just upstream from the Colorado Riverway Recreation area near the junction of the Kane Creek and Hurrah Pass roads. The Lone Mesa site, located along the Dead Horse Mesa Scenic Byway, would include both group sites and individual campsites. The Cowboy Camp Camping Area is also located along the Dead Horse Mesa Scenic Byway and would have individual sites only.

The BLM is committed to provide, and receive fair value for the use of developed recreation facilities and services in a manner that meets public use demands, provides quality experiences and protects important resources. The BLM's policy is to collect fees at all specialized recreation sites, or where the BLM provides facilities, equipment or services, at Federal expense, in connection with outdoor use as authorized by the REA. In an effort to meet increasing demands for services and maintenance of developed facilities, the BLM would implement a fee program for the camping areas. Implementing a fee program for the camping areas will help ensure that funding is available to maintain facilities and recreational opportunities, to provide for law enforcement presence, to develop additional services, and to protect resources. This entails communication with those who will be most directly affected by the camping areas, for example recreationists, other recreation providers, partners, neighbors, and those who will have a stake in solving concerns that may arise throughout the life of the camping areas, including elected officials, and other agencies.

Development of the camping areas is consistent with the 1985 Grand Resource Management Plan and was analyzed in the following environmental documents: Kokopelli's Trail Improvements, UT-068-90-55, DR/FONSI signed 2/15/1990; Colorado Riverway Recreation Area Management Plan, UT-062-151, DR/FONSI signed 7/9/2001; Big Mesa and Cowboy Camp Camping Areas, UT-060-2006-115, DR/FONSI signed 7/10/2006, and Kane Creek Camping Areas, UT-060-2007-026, DR/FONSI forthcoming in June 2007. Fees would be consistent with other established fee sites in the area including other BLM administered sites in the area and those managed by the USDA Forest Service, USDI National Park Service, and Utah State Parks and Recreation. Future adjustments in the fee amount will be made following the Moab Field Office's recreation fee business plan covering the sites, consultation with the RAC and other public notice prior to a fee increase.

In December 2004, the REA was signed into law. The REA provides authority for 10 years for the Secretaries of the Interior and Agriculture to establish, modify, charge, and collect recreation fees for use of some Federal recreation lands and waters, and contains specific provisions addressing public involvement in the establishment of recreation fees, including a requirement that Recreation Resource Advisory Committees or Councils have the opportunity to make recommendations regarding establishment of such fees. REA also directed the Secretaries of the Interior and Agriculture to publish advance notice in the Federal Register whenever new recreation fee areas are established under their respective jurisdictions. In accordance with the BLM recreation fee program policy, the Moab Field Office's recreation fee business plan both explains the fee collection process and how the fees will be used at the camping areas. BLM will notify and involve the public at each stage of the planning process, including the proposal to collect fees. The RAC has reviewed the fee proposal as well. Fee amounts will be posted on-site, and at the Moab Field Office, and copies of the business plan will be available at the Moab Field Office and the BLM Utah State Office.

The BLM welcomes public comments on this proposal. Before including your address, phone number, e-mail address, or other personal identifying information in your comment, be advised that your entire comment—including your personal identifying information—may be made publicly available at any time. While you can ask us in your comment to withhold from public review your personal identifying information, we cannot guarantee that we will be able to do so.

Authority: 16 U.S.C. 6803(b).

Maggie Wyatt,
Field Manager, Moab Field Office.

[FR Doc. E7-15363 Filed 8-6-07; 8:45 am]

BILLING CODE 4310-$$-P